DEPARTMENT OF TRANSPORTATION

Surface Transportation Board

[Docket No. FD 35538]

CSX Transportation, Inc.—Trackage Rights Exemption—Norfolk Southern Railway Company

Pursuant to a written trackage rights agreement, Norfolk Southern Railway Company (NSR) has agreed to grant approximately 3,290 feet of overhead trackage rights to CSX Transportation, Inc. (CSXT),¹ between the point of switch at Track Station 55 + 65 and the point of switch at Track Station 30 + 70, and the portion of NSR's track parallel to CSXT's track between the point of switch at Track Station 30 + 55 and Track Station 22 + 75, in Hamilton County, Tenn.

¹ A redacted, executed trackage rights agreement between CSXT and NSR was filed with the notice of exemption. The unredacted version was concurrently filed under seal along with a motion for protective order, which will be addressed in a separate decision.

The transaction is scheduled to be consummated on or after August 21, 2011, the effective date of the exemption (30 days after the exemption was filed).

CSXT states that it and NSR both own tracks between Craven's Yard and the riverfront in the vicinity of 19th Street in Chattanooga, Tenn. According to CSXT, NSR's single spur track crosses CSXT's single spur track at Chestnut Street, just north of Craven's Yard under provisions of an agreement dated January 30, 1907, as supplemented (the Lewis Street Crossing Agreement). To take advantage of operating efficiencies and conveniences, CSXT and NSR wish to cancel the Lewis Street Crossing Agreement and replace the current crossing diamond with a turnout and switches lining CSXT's spur into NSR's spur north of Craven's Yard. CSXT states that, by retiring the crossing diamond, the parties will reduce maintenance costs and improve the efficiency of operations. The purpose of the proposed trackage rights is to allow CSXT the use of the turnout and switches.

As a condition to this exemption, any employees affected by the trackage rights will be protected by the conditions imposed in Norfolk & Western Railway—Trackage Rights—Burlington Northern, Inc., 354 I.C.C. 605 (1978), as modified in Mendocino Coast Railway, Inc.—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by August 12, 2011 (at least 7 days before the exemption becomes effective).

An original and 10 copies of all pleadings, referring to Docket No. FD 35538, must be filed with the Surface Transportation Board, 395 E Street, SW., Washington, DC 20423-0001. In addition, a copy of each pleading must be served on Steven C. Armbrust, Esq., CSX Transportation, Inc., 500 Water Street J-150, Jacksonville, FL 32202, and Louis E. Gitomer, Esq., Law Offices of Louis E. Gitomer, LLC, 600 Baltimore Avenue, Suite 301, Towson, MD 21204.

Board decisions and notices are available on our Web site at http://www.stb.dot.gov.

Decided: August 2, 2011.
By the Board.
Rachel D. Campbell,
Director, Office of Proceedings.
Jeffrey Herzig,
Clearance Clerk.

[FR Doc. 2011-19889 Filed 8-4-11; 8:45 am]

BILLING CODE 4915-01-P